DEPARTMENT OF THE INTERIOR

Bureau of Indian Affairs

Final Environmental Impact Statement for the Elk Valley Rancheria's Proposed 203.5 Acre Martin Ranch Fee-to-Trust Transfer and Casino/Resort Project, Del Norte County, CA

AGENCY: Bureau of Indian Affairs, Interior.

ACTION: Notice.

SUMMARY: This notice advises the public that the Bureau of Indian Affairs (BIA), in cooperation with the Elk Valley Rancheria (tribe), City of Crescent City, U.S. Army Corps of Engineers, U.S. Fish and Wildlife Service, California Department of Fish and Game, and U.S. Environmental Protection Agency (EPA), intends to file a final Environmental Impact Statement (FEIS) with the EPA for the proposed approval of a 203.5-acre fee-to-trust transfer and casino/resort complex in Del Norte County, California, and that the FEIS is now available to the public. The purpose of the proposed action is to help provide for the economic development of the tribe.

DATES: The Record of Decision on the proposed action will be issued on or after November 7, 2006. Any comments on the FEIS must arrive by November 6, 2006.

ADDRESSES: You may mail or hand carry written comments to Clay Gregory, Regional Director, Bureau of Indian Affairs, Pacific Region, 2800 Cottage Way, Room W-2820, Sacramento, California 95825. Please include your name, return address and the caption, “FEIS Comments, Elk Valley Rancheria, Martin Ranch, Fee to Trust Casino/Resort Project,” on the first page of your written comments.

The FEIS will be available for review at the Del Norte County Library, located at 190 Price Mall, Crescent City, California 95531. General information for the Del Norte County Library District can be obtained by calling (707) 464-9793.

If you would like to obtain a copy of the FEIS, please provide your name and address in writing or by voicemail to John Rydzik, Chief of the Division of Environmental, Cultural Resource Management and Safety, at the BIA address above or at the telephone number provided below.

FOR FURTHER INFORMATION CONTACT: John Rydzik, (916) 978-6042.

SUPPLEMENTARY INFORMATION: The tribe has asked the BIA to take 203.5 acres of land into trust on behalf of the tribe, on which the tribe proposes to develop a casino, hotel, conference center and parking facility. The project site, known locally as the Martin Ranch, is located one mile southeast of the City of Crescent City, California, adjacent to Highway 101 and Humboldt Road. The site is currently undeveloped, with the exception of a single-family residence, associated outbuildings, and barn. Regional access to the project site would be via Highway 101. Humboldt Road would provide primary local access to the casino.

Project alternatives considered in the FEIS include: (1) The preferred casino, hotel, conference center, and parking facility alternative; (2) a golf course, hotel, conference center, and parking facility (non-gaming) alternative; (3) a casino, hotel, conference center, golf course, and parking facility alternative; (4) the Enderts Beach casino alternative; and (5) the no action alternative.

Environmental issues addressed in the FEIS include land resources, water resources, air quality, biological resources, cultural resources, socioeconomic conditions, environmental justice, transportation, land use, agriculture, public services, noise, hazardous materials, visual resources, cumulative effects, indirect effects and mitigation.

The BIA is the lead agency for compliance with the National Environmental Policy Act for this proposed action. The City of Crescent City, U.S. Army Corps of Engineers, U.S. Fish and Wildlife Service, EPA, and California Department of Fish and Game, as entities having jurisdiction and expertise relevant to potentially affected resources, are serving as cooperating agencies. In addition, consultation and coordination has been executed with the California Coastal Commission.

The BIA has afforded other government agencies and the public ample opportunity to participate in the preparation of this FEIS. The BIA published a notice of intent to prepare an EIS for the proposed action in the Federal Register on November 21, 2003 (68 FR 65732). The BIA held a public scoping meeting on December 15, 2003, in Crescent City. A Notice of Availability for the Draft EIS was published in the Federal Register on September 30, 2005 (70 FR 57277), and in the Daily Triplicate on September 29 and 30, and October 5, 2005. The document was available for public comment from September 30 to November 28, 2005, and a public hearing held November 2, 2005, in Crescent City.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality regulations (40 CFR parts 1500 through 1508) implementing the procedural requirements of the National Environmental Policy Act of 1969, as amended (42 U.S.C. 4321 et seq.), the Department of the Interior Manual (516 DM 1-6), and is in the exercise of authority delegated to the Principal Deputy Assistant Secretary—Indian Affairs by 209 DM 8.

Dated: September 6, 2006.
Michael D. Olsen,
Principal Deputy Assistant Secretary—Indian Affairs.

[FR Doc. E6-16551 Filed 10-5-06; 8:45 am]

BILLING CODE 4310-W7-P